DEPARTMENT OF LABOR

Employment and Training Administration

[TA-W-58,921]

Tawas Resources; Tawas City, MI; Notice of Termination of Investigation

Pursuant to section 221 of the Trade Act of 1974, as amended, an investigation was initiated on March 1, 2006 in response to a petition filed by a company official on behalf of workers at Tawas Resources, Tawas City, Michigan.

The petitioner has requested that the petition be withdrawn. Consequently, the investigation has been terminated.

Signed at Washington, DC this 10th of April, 2006.
Elliott S. Kushner,
Certifying Officer, Division of Trade Adjustment Assistance.

[FR Doc. E6-6096 Filed 4-21-06; 8:45 am]

BILLING CODE 4510-30-P